DEPARTMENT OF STATE

[Public Notice 11487]

60-Day Notice of Proposed Information Collection: Application for a U.S. Passport

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to November 15, 2021.

ADDRESSES: You may submit comments by any of the following methods:

• Web: Persons with access to the internet may comment on this notice by going to www.Regulations.gov. You can search for the document by entering “Docket Number: DOS-2021-0020” in the Search field. Then click the “Comment Now” button and complete the comment form. Email and regular mail options have been suspended to centralize receiving and addressing all comments in a timely manner.

• Direct requests for additional information regarding the collection listed in this notice, including requests for copies of the proposed collection instrument and supporting documents to Passport-Form-Comments@State.gov. You must include the DS form number (if applicable), information collection title, and the OMB control number in the email subject line.

SUPPLEMENTARY INFORMATION:

• Title of Information Collection: Application for a U.S. Passport.

• OMB Control Number: 1405-0004.

• Type of Request: Revision of a Currently Approved Collection.

• Originating Office: Bureau of Consular Affairs, Passport Services, Office of Program Management and Operational Support (CA/PPT/S/PMO).

• Form Number: DS-11.

• Respondents: Individuals or Households.

• Estimated Number of Respondents: 9,217,667.

• Estimated Number of Responses: 9,217,667.

• Average Time per Response: 85 minutes.

• Total Estimated Burden Time: 13,058,362 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-11 solicits data necessary for Passport Services to issue a United States passport (book and/or card format) pursuant to authorities granted to the Secretary of State by 22 U.S.C. 211a et seq., and Executive Order (E.O.) 11295 (August 5, 1966) for the issuance of passports to U.S. nationals. The issuance of U.S. passports requires the determination of identity, nationality, and entitlement with reference to the provisions of Title III of the Immigration and Nationality Act (INA) (8 U.S.C. 1401-1504), the 14th Amendment to the Constitution of the United States, other applicable treaties and laws, and implementing regulations at 22 CFR parts 50 and 51. The specific regulations pertaining to the Application for a U.S. Passport are at 22 CFR 51.20 through 51.28.

This form has been amended based on a change in Department policy. The Department's new policy permits passport applicants to select the gender marker on their passport without presenting medical documentation of gender transition. This policy change includes updating forms to add a third gender marker “X” for applicants identifying as non-binary, intersex, and/or gender non-conforming (in addition to the existing “M” and “F” gender markers).

Methodology

The information collected on the DS-11 is used to facilitate the issuance of passports to U.S. citizens and nationals. The primary purpose of soliciting the information is to establish citizenship, identity, and entitlement to the issuance of a U.S. passport, and to properly administer and enforce the laws pertaining to the issuance thereof.

Passport Services collects information from U.S. citizens and non-citizen nationals when they complete and submit the Application for a U.S. Passport. Passport applicants can either download the DS-11 from the internet or obtain one from an Acceptance Facility/Passport Agency or U.S. embassy/consulate abroad. The form must be completed and executed at an acceptance facility, passport agency, or U.S. embassy/consulate (if abroad), and submitted with evidence of citizenship and identity.

Rachel M. Arndt,
Deputy Assistant Secretary, Bureau of Consular Affairs, Passport Services, Department of State.

[FR Doc. 2021-19835 Filed 9-14-21; 8:45 am]

BILLING CODE 4710-06-P